INTERNATIONAL TRADE COMMISSION

Agency Form Submitted for OMB Review

AGENCY: United States International Trade Commission.

ACTION: In accordance with the provisions of the Paperwork Reduction Act of 1995 (44 U.S.C. Chapter 35), the Commission has submitted a request for emergency processing for review and clearance of questionnaires to the Office of Management and Budget (OMB). The Commission has requested OMB approval of this submission by COB March 15, 2007.

EFFECTIVE DATE: March 1, 2007.

Purpose of Information Collection: The forms are for use by the Commission in connection with investigation No. 332-479, Certain Textile Articles: Performance Outerwear, instituted under section 332(g) of the Tariff Act of 1930 (19 U.S.C. 1332(g)) at the request of the House Committee on Ways and Means. The Commission expects to deliver its report to the Committee by July 25, 2007.

Summary of Proposal:

(1) Number of forms submitted: two.

(2) Title of form: Questionnaire for U.S. Producers of Performance Outerwear Jackets and Pants; Questionnaire for U.S. Producers of Fabrics for Use in Performance Outerwear Jackets and Pants.

(3) Type of request: New.

(4) Frequency of use: Single data gathering, scheduled for 2007.

(5) Description of respondents: U.S. firms that produce performance outerwear jackets and pants, and U.S. firms that produce the fabrics used in performance outerwear jackets and pants.

(6) Estimated number of respondents: 116 (Producer outerwear questionnaire). 17 (Producer fabric questionnaire).

(7) Estimated total number of hours for all respondents combined to complete the forms: 832 hours.

(8) Information obtained from the form that qualifies as confidential business information will be so treated by the Commission and not disclosed in a manner that would reveal the individual operations of a firm.

Additional Information or Comment: Copies of the forms and supporting documents may be obtained from the Commission's Web site at http://www.usitc.gov/ind_econ_ana/research_ana/Ongoing_Inv.htm, or from Kimberlie Freund, Co-Project Leader (202-708-5402; kimberlie.freund@usitc.gov) or Heidi Colby-Oizumi, Co-Project Leader, (202-205-3391; heidi.colby@usitc.gov), of the Office of Industries. Comments about the proposals should be directed to the Office of Management and Budget, Office of Information and Regulatory Affairs, Room 10102 (Docket Library), Washington, DC 20503, ATTENTION: Docket Librarian. All comments should be specific, indicating which part of the questionnaire is objectionable, describing the concern in detail, and including specific suggested revisions or language changes. Copies of any comments should be provided to Robert Rogowsky, Director, Office of Operations, U.S. International Trade Commission, 500 E Street, SW., Washington, DC 20436, who is the Commission's designated Senior Official under the Paperwork Reduction Act.

Persons with mobility impairments who will need special assistance in gaining access to the Commission should contact the Secretary at 202-205-2000. Hearing impaired individuals are advised that information on this matter can be obtained by contacting our TTD terminal (telephone no. 202-205-1810). General information concerning the Commission may also be obtained by accessing its Internet server (http://www.usitc.gov).

Issued: March 1, 2007.
By order of the Commission.
Marilyn R. Abbott,
Secretary to the Commission.

[FR Doc. E7-4013 Filed 3-6-07; 8:45 am]

BILLING CODE 7020-02-P